DEPARTMENT OF COMMERCE

National Oceanic and Atmospheric Administration

50 CFR Part 679

[Docket No. 200227-0066]

RTID 0648-XA664

Fisheries of the Exclusive Economic Zone Off Alaska; Several Groundfish Species in the Bering Sea and Aleutian Islands Management Area

AGENCY: National Marine Fisheries Service (NMFS), National Oceanic and Atmospheric Administration (NOAA), Commerce.

ACTION: Temporary rule; apportionment of reserves; request for comments.

SUMMARY: NMFS apportions amounts of the non-specified reserve to the initial total allowable catch (ITAC) of Bering Sea and Aleutian Islands (BSAI) arrowtooth flounder, BSAI “other flatfish,” Bering Sea subarea and Eastern Aleutian District (BS/EAI) blackspotted/rougheye rockfish, Western Aleutian District and Central Aleutian District (WAI/CAI) blackspotted/rougheye rockfish, BSAI skates; and to the total allowable catch (TAC) of BSAI Alaska plaice. This action is necessary to allow the fisheries to continue operating. It is intended to promote the goals and objectives of the fishery management plan for the BSAI management area.

DATES: Effective November 20, 2020, through 2400 hrs, Alaska local time, December 31, 2020. Comments must be received at the following address no later than 4:30 p.m., Alaska local time, December 7, 2020.

ADDRESSES: Submit your comments, identified by docket number NOAA-NMFS-2019-0074, by either of the following methods:

• Electronic Submission: Submit all electronic public comments via the Federal e-Rulemaking Portal. Go to https://www.regulations.gov/docket?D=NOAA-NMFS-2019-0074 click the “Comment Now!” icon, complete the required fields, and enter or attach your comments.

• Mail: Submit written comments to Glenn Merrill, Assistant Regional Administrator, Sustainable Fisheries Division, Alaska Region NMFS. Mail comments to P.O. Box 21668, Juneau, AK 99802-1668.

Instructions: NMFS may not consider comments if they are sent by any other method, to any other address or individual, or received after the comment period ends. All comments received are a part of the public record and NMFS will post the comments for public viewing on www.regulations.gov without change. All personal identifying information (e.g., name, address, etc.), confidential business information, or otherwise sensitive information submitted voluntarily by the sender is publicly accessible. NMFS will accept anonymous comments (enter “N/A” in the required fields if you wish to remain anonymous).

FOR FURTHER INFORMATION CONTACT: Steve Whitney, 907-586-7228.

SUPPLEMENTARY INFORMATION: NMFS manages the groundfish fishery in the BSAI exclusive economic zone according to the Fishery Management Plan for Groundfish of the BSAI Management Area (FMP) prepared by the North Pacific Fishery Management Council under authority of the Magnuson-Stevens Fishery Conservation and Management Act. Regulations governing fishing by U.S. vessels in accordance with the FMP appear at subpart H of 50 CFR part 600 and 50 CFR part 679.

The 2020 ITAC of BSAI arrowtooth flounder was established as 8,500 metric tons (mt), the 2020 ITAC of BSAI “other flatfish” was established as 3,600 mt, the 2020 ITAC of BS/EAI blackspotted/rougheye rockfish was established as 112 mt, the 2020 ITAC of WAI/CAI blackspotted/rougheye rockfish was established as 224 mt, the 2020 ITAC of BSAI skates was established as 13,866 mt, and the 2020 TAC of BSAI Alaska plaice was established as 17,450 mt by the final 2020 and 2021 harvest specifications for groundfish of the BSAI (85 FR 13553, March 9, 2020) and revised in the release of groundfish reserves (85 FR 49976, August 17, 2020). In accordance with § 679.20(a)(3) the Regional Administrator, Alaska Region, NMFS, has reviewed the most current available data and finds that the ITACs of the BSAI arrowtooth flounder, BSAI “other flatfish,” BS/EAI blackspotted/rougheye rockfish, WAI/CAI blackspotted/rougheye rockfish, BSAI skates; and the TAC of BSAI Alaska plaice need to be supplemented from the non-specified reserve to promote efficiency in the utilization of fishery resources in the BSAI and allow fishing operations to continue.

Therefore, in accordance with § 679.20(b)(3), NMFS apportions from the non-specified reserve of groundfish to ITACs in the BSAI management area as follows: 430 mt to BSAI arrowtooth flounder, 521 mt to BSAI “other flatfish,” 20 mt to BS/EAI blackspotted/rougheye rockfish, 40 mt to WAI/CAI blackspotted/rougheye rockfish, 3,340 mt to BSAI skates, and 2,600 mt to BSAI Alaska plaice. These apportionments are consistent with § 679.20(b)(1)(i) and do not result in overfishing of any target species because the revised ITACs and TACs are equal to or less than the specifications of the acceptable biological catch in the final 2020 and 2021 harvest specifications for groundfish in the BSAI (85 FR 13553, March 9, 2020).

The harvest specification for the 2020 ITACs and TACs included in the harvest specifications for groundfish in the BSAI are revised as follows: 8,930 mt for BSAI arrowtooth flounder, 4,121 mt for BSAI “other flatfish,” 20,050 mt for BSAI Alaska plaice, 17,206 mt for BSAI skates, 132 mt for BS/EAI blackspotted/rougheye rockfish, and 264 mt for WAI/CAI blackspotted/rougheye rockfish.

Classification

NMFS issues this action pursuant to section 305(d) of the Magnuson-Stevens Act. This action is required by 50 CFR part 679, which was issued pursuant to section 304(b), and is exempt from review under Executive Order 12866.

Pursuant to 5 U.S.C. 553(b)(B), there is good cause to waive prior notice and an opportunity for public comment on this action, as notice and comment would be impracticable and contrary to the public interest, as it would prevent NMFS from responding to the most recent fisheries data in a timely fashion and would delay the apportionment of the non-specified reserves of groundfish to the BSAI arrowtooth flounder, BSAI “other flatfish,” BS/EAI blackspotted/rougheye rockfish, WAI/CAI blackspotted/rougheye rockfish, BSAI skates, and to the BSAI Alaska plaice. NMFS was unable to publish a notice providing time for public comment because the most recent, relevant data only became available as of November 17, 2020.

Under § 679.20(b)(3)(iii), interested persons are invited to submit written comments on this action (see ADDRESSES) until December 7, 2020.

Authority: 16 U.S.C. 1801 et seq.

Dated: November 20, 2020.
Jennifer M. Wallace,
Acting Director, Office of Sustainable Fisheries, National Marine Fisheries Service.

[FR Doc. 2020-26102 Filed 11-20-20; 4:15 pm]

BILLING CODE 3510-22-P